DEPARTMENT OF HOUSING AND URBAN DEVELOPMENT

[Docket No. FR-5758-N-15]

60-Day Notice of Proposed Information Collection: Data Collection Questionnaires for Thompson v. HUD Research Study

AGENCY: Office of the Assistant Secretary for Policy Development and Research, Department of Housing and Urban Development.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 20, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Thompson v. HUD: Interface of Mobility and Sustainability.

OMB Approval Number: N/A.

Type of Request: New.

Form Number: N/A.

Description of the Need for the Information and Proposed Use: The proposed data collection supports the research HUD is required to undertake outlined in the Thompson v. HUD et al Settlement Agreement. The purpose of this data collection is to gather demographic and experiential information on a subset of Housing Choice Voucher holders in the Baltimore metropolitan region who have received special vouchers as part of the Settlement (“Thompson vouchers”). This data collection will inform the research with information to determine whether Thompson vouchers enable(d) households to more easily relocate to neighborhoods with greater opportunity than regular voucher households. Along with data gathered from other sources, the data from this collection will be used to define neighborhoods of opportunity—providing greater access to educational, social, economic, and health benefits—and where those neighborhoods are located within the Baltimore region. Defining neighborhoods of opportunity is essential to the research, as it will allow the researchers to compare and analyze the mobility and relocation choices of Thompson and regular voucher households. This comparison will highlight the accessibility of such opportunities to the Plaintiff Class, a core component of the research requirement described in the Settlement Agreement. Positive program outcomes identified through this research will be of value to voucher programs in other regions of the country.

Respondents: Selected Housing Choice Voucher holders in the Baltimore Metropolitan region (Baltimore City and County; Anne Arundel County; Carroll County; Howard County; Harford County; and Queen Anne's County).

Estimated Number of Respondents: 226.

Estimated Number of Responses: 226.

Frequency of Response: 1.

Average Hours per Response: 1.56.

Total Estimated Burdens: 353 hours.

Information collection | Number of respondents | Frequency of response | Responses per annum | Burden hour per response | Annual burden hours | Hourly cost per response | Annual cost
Thompson v. HUD Data Collection | 226 | 1 | 226 | 1.56 | 353 | $13.43 | $4,741.14
Total | 226 | 1 | 226 | 1.56 | 353 | $13.43 | $4,741.14

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comments in response to these questions.

Authority: Section 3507 of the Paperwork Reduction Act of 1995, 44 U.S.C. 35.

Dated: December 11, 2014.
Katherine O'Regan,
Assistant Secretary for Policy Development and Research.

[FR Doc. 2014-29885 Filed 12-19-14; 8:45 am]

BILLING CODE 4210-67-P